DEPARTMENT OF THE INTERIOR

Bureau of Land Management

[WY-100-03-1610-DJ]

Pinedale Anticline Working Group, Notice of Initiation of the Nomination/Selection Process, Sublette County, WY

AGENCY: Bureau of Land Management, Interior.

ACTION: Call for nominations for membership to the Pinedale Anticline Working Group as part of the Adaptive Environmental Management program for the Pinedale Anticline Project Area in Southwestern Wyoming.

DATES: All nominations should be postmarked by 45 days from date of publication in the Federal Register. Final selections will be made by and serve at the discretion of the Secretary of the Interior.

ADDRESSES: You can obtain information and a copy of the notice for the nomination/selection process by writing or visiting the following offices: Bureau of Land Management, Wyoming State Office, 5353 Yellowstone Road, PO Box 1828, Cheyenne, Wyoming 82003; Bureau of Land Management, Pinedale Field Office, 432 East Mill Street, PO Box 768, Pinedale, Wyoming 82941.

SUMMARY: On August 15, 2002, the Secretary of the Interior signed the Charter to establish the Pinedale Anticline Working Group (PAWG). We are now initiating the process to select the membership of that group. Several interest groups, governmental agencies, and local interests will be given the opportunity to be represented on the PAWG. Individuals or groups interested in becoming a member of the PAWG should submit the specified information within 45 days of receiving this notice.

Nominations and supporting documentation should be sent to: Bureau of Land Management, Pinedale Field Office, ATTN: Eldon Allison, PAWG Coordinator, PO Box 768, Pinedale, Wyoming 82941.

FOR FURTHER INFORMATION CONTACT: Eldon Allison, PAWG Coordinator, BLM, Pinedale Field Office, PO Box 768, Pinedale, Wyoming, 82941, telephone (307) 367-5300.

SUPPLEMENTARY INFORMATION: On August 15, 2002, the Secretary of the Interior signed the Charter to establish the Pinedale Anticline Working Group (PAWG). We are now initiating the process to select the membership of that group. The Charter establishes several membership selection criteria and operational procedures that need to be followed once the Working Group has been established and becomes active. These are listed as follows:

(1) The PAWG will be composed of 9 members who reside in the State of Wyoming. The PAWG members will be appointed by and serve at the pleasure of the Secretary of Interior.

(2) Members of the PAWG will be as follows:

• A representative from the State of Wyoming Office of Federal Land Policy.

• A representative from the Town of Pinedale.

• A representative from the oil/gas operators active in the Pinedale Anticline area.

• A representative from the Sublette County government.

• A representative from statewide or local environmental groups.

• A representative from the landowners within or bordering the Pinedale Anticline area.

• A representative of livestock operators operating within or bordering the Pinedale Anticline area.

• Two members from the public-at-large.

(3) All members should have demonstrated an ability to analyze and interpret data and information, evaluate proposals, identify problems, and promote the use of collaborative management techniques (such as, long term planning, management across jurisdictional boundaries, data sharing, information exchange, and partnerships), and a knowledge of issues involving oil and gas development activities.

(4) The service of the PAWG members shall be as follows:

(a) PAWG members will be appointed for 2-year terms, subject to removal by the Secretary of the Interior. At the discretion of the Secretary of the Interior, members may be reappointed to additional terms.

(b) The Chairperson of the PAWG will be selected by the PAWG at its first meeting.

(c) The term of the Chairperson will not exceed 2 years.

Individuals, or representatives of groups, who wish to become members of the Pinedale Anticline Working Group should complete and submit the following information to this office by March 28, 2003:

A. Representative group to be considered for:

B. Nominee's full name:

C. Business address:

D. Business phone:

E. Home address:

F. Home phone:

G. Occupation/title:

H. Qualifications (education including colleges, degrees, major field of study and/or training):

I. Career highlights (significant related experience, civic and professional activities, elected offices, prior advisory committee experience, or career achievements related to the interest to be represented):

J. Experience in collaborative management techniques, such as long term planning, management across jurisdictional boundaries, data sharing, information exchange and partnerships:

K. Experience in data analysis and interpretation, problem identification and evaluation of proposals:

L. Knowledge of issues involving oil and gas development:

M. Indicate specific area of interest to be represented from the following:

1. A representative from the State of Wyoming Office of Federal Land Policy,

2. A representative from the Town of Pinedale,

3. A representative from the oil/gas operators active in the Pinedal, Anticline area,

4. A representative from the Sublette County government,

5. A representative from statewide or local environmental groups,

6. A representative from the landowners within or bordering the Pinedale Anticline area,

7. A representative of livestock operators operating within or bordering the Pinedale Anticline area, or

8. Two representatives from the public-at-large.

N. List any leases, license, permits, contracts or claims that you hold which involve lands or resources administered by the BLM:

O. Attach two or three letters of reference from interests or organization to be represented.

P. Nominated by: include nominator's name, address and telephone number(s).

Q. Date of nomination:

Groups should nominate more than one persona and indicate their preferred order of appointment selection.

Dated: December 20, 2002.
Alan L. Kesterke,
Acting State Director.

[FR Doc. 03-4184 Filed 2-20-03; 8:45 am]

BILLING CODE 4310-22-P